NATIONAL AERONAUTICS AND SPACE ADMINISTRATION

[Notice (00-003)]

Aerospace Safety Advisory Panel; Meeting

AGENCY: National Aeronautics and Space Administration.

ACTION: Notice of meeting.

SUMMARY: In accordance with the Federal Advisory Committee Act, Pub. L. 92-463, as amended, the National Aeronautics and Space Administration announces a forthcoming meeting of the Aerospace Safety Advisory Panel.

DATES: Thursday, February 10, 2000, 1:00 p.m. to 2:30 p.m.

ADDRESSES: National Aeronautics and Space Administration, 300 E Street, SW, Room 9H40, Washington, DC 20546.

FOR FURTHER INFORMATION CONTACT: Ms. Suzanne E. Hilding, ASAP Executive Director, Code Q-1, National Aeronautics and Space Administration, Washington, DC 20546, 202/358-1455.

SUPPLEMENTARY INFORMATION: The Aerospace Safety Advisory Panel will present its annual report to the NASA Administrator and Deputy Administrator. This is pursuant to carrying out its statutory duties for which the Panel reviews, identifies, evaluates, and advises on those program activities, systems, procedures, and management activities that can contribute to program risk. Priority is given to those programs that involve the safety of human flight. The major subjects covered will be the National Space Transportation System, International Space Station, Aeronautical Operations, and Workforce Issues.

The Aerospace Safety Advisory Panel is currently chaired by Richard D. Blomberg, Deputy Chairman, and is composed of 8 members and 7 consultants. The meeting will be open to the public up to the capacity of the room (approximately 60 persons including members of the Panel).

Dated: January 12, 2000.
Matthew M. Crouch,
NASA Advisory Committee Management Officer.

[FR Doc. 00-1247 Filed 1-18-00; 8:45 am]

BILLING CODE 7510-01-P